DEPARTMENT OF THE INTERIOR

Bureau of Indian Affairs

Revised Notice of Intent To Prepare an Environmental Impact Statement/Environmental Impact Report for the Torres Martinez-Calpine Power Generating Facility, Riverside County, California

AGENCY: Bureau of Indian Affairs, Interior.

ACTION: Revised notice.

SUMMARY: This notice revises a notice published on June 13, 2000, in the Federal Register (65 FR 37163), which informed the public that the Bureau of Indian Affairs, in cooperation with the Torres Martinez Desert Cahuilla Indians and Calpine Corporation, intended to gather information necessary to prepare an Environmental Impact Statement (EIS) for a power generating facility that Calpine proposes to construct and operate on 41.5 acres of the Torres Martinez Indian Reservation in Riverside County, California. The purposes of this revised notice are to (1) announce that the Bureau will be preparing an Environmental Impact Report (EIR) in conjunction with the EIS; (2) to include in the project description modifications made to the project after the original notice was published; and (3) to update the environmental issues identified for the project. Details on the changes are included in a revised SUPPLEMENTARY INFORMATION section. This notice also announces a public scoping meeting for the content of the EIS/EIR.

DATES: Comments on the scope and implementation of this proposal must arrive by February 12, 2001. The public scoping meeting will be held on January 30, 2001, from 7:00 p.m. to 8:00 p.m., or until all attendees who wish to do so have had the opportunity to register their views.

ADDRESSES: You may mail or hand carry written comments to Ronald M. Jaeger, Regional Director, Pacific Region, Bureau of Indian Affairs, 2800 Cottage Way, Sacramento, California, 95825-1846.

The January 30, 2001, public scoping meeting will be held at the Tribal Hall, Torres Martinez Indian Reservation, 66-725 Martinez Road, Thermal, California.

FOR FURTHER INFORMATION CONTACT: William Allan, (916) 978-6043, or Bobbi Fletcher, (760) 397-9850.

SUPPLEMENTARY INFORMATION: Calpine Corporation, through an agreement with the Torres Martinez Desert Cahuilla Indians, plans to construct, own and operate a 600 megawatt natural gas-fired power plant on a 41.5 acre parcel of tribal trust land in Riverside County, California, northeast of the town of Mecca. The parcel is located along 62nd Avenue, east of Johnson Street near the Coachella Canal.

Natural gas is proposed to be supplied to the plant by a new 11 to 17 mile gas line extending north to a connection point north of the I-10 Freeway. Electricity produced by the plant would be routed through an on-site substation to the first point of junction with the interconnected transmission system via existing electrical transmission lines. To relieve the potential for localized transmission system congestion beyond the point of first interconnection, the project would also require construction of a new electrical transmission line segment between the site and a substation in the city of Coachella, plus improvements to several miles of existing off-site transmission lines. Cooling water for the power plant is proposed to be obtained from the Coachella Canal immediately east of the site, or from an on-site groundwater well. The plant would utilize a zero-discharge system, wherein cooling water would be repeatedly cycled and then evaporated in on-site evaporation ponds.

The areas of environmental concern to be addressed in the EIS/EIR include agricultural, water, biological, mineral, paleontological, visual/aesthetic and cultural resources, geology, soils, traffic and transportation, land use, noise, air quality, public health and infrastructure, environmental hazards, hazardous materials and waste, worker safety, socioeconomics/environmental justice, and Indian trust assets. Others may be added based on comments received during the scoping process.

Public Comment Solicitation

As an alternative to submitting written comments regarding the content of the EIS/EIR to the location identified in the ADDRESSES section, interested persons may instead comment via the Internet to billallan@bia.gov. Please submit Internet comments as an ASCII file, avoiding the use of special characters and any form of encryption. If you do not receive confirmation from the system that your Internet message was received, contact us directly at (916) 978-6043.

Comments, including names and home addresses of respondents, will be available for public review at the mailing address shown in the ADDRESSES section, during regular business hours, 8:00 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: January 9, 2001.
Michael Anderson,
Acting Assistant Secretary—Indian Affairs.

[FR Doc. 01-1115 Filed 1-11-01; 8:45 am]

BILLING CODE 4310-02-U